DEPARTMENT OF VETERANS AFFAIRS

[OMB Control No. 2900-0674]

Agency Information Collection Activity: Notice of Disagreement

AGENCY: Board of Veterans' Appeals, Department of Veterans Affairs.

ACTION: Notice.

SUMMARY: In compliance with the Paperwork Reduction Act (PRA) of 1995, this notice announces that the Board of Veterans' Appeals, Department of Veterans Affairs, will submit the collection of information abstracted below to the Office of Management and Budget (OMB) for review and comment. The PRA submission describes the nature of the information collection and its expected cost and burden and it includes the actual data collection instrument.

DATES: Comments must be submitted on or before December 14, 2018.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0674” in any correspondence.

FOR FURTHER INFORMATION CONTACT: Sue Hamlin, BVA, (01C2), Department of Veterans Affairs, 810 Vermont Avenue NW, Washington, DC 20420, (202) 632-5100 or email sue.hamlin@va.gov. Please refer to “OMB Control No. 2900-0674” in any correspondence.

SUPPLEMENTARY INFORMATION:

Authority: Public Law 115-55; 38 U.S.C. 5104B, 5108, 5701, 5901, 7103, 7104, 7105, 7107.

Title: Decision Review Request: Board Appeal (Notice of Disagreement) and Appeal to the Board of Veterans' Appeals, VA Form 10182 and VA Form 9

OMB Control Number: 2900-0674.

Type of Review: Reinstatement with Change of a currently approved collection.

Abstract: Appellate review of the denial of VA benefits may only be initiated by filing a Notice of Disagreement with the Board. 38 U.S.C. § 7105(a). The VA Form 9, “Appeal to Board of Veterans' Appeals,” is required to complete a legacy appeal to the Board. The completed form becomes the “substantive appeal” (or “formal appeal”), which is required by 38 U.S.C. §§ 7105(a) and (d)(3) in order to complete an appeal to the Board. Additionally, the proposed information collections allow for withdrawal of services by a representative, requests for changes in hearing dates and methods under 38 U.S.C. § 7107, and motions for reconsideration pursuant to 38 U.S.C. § 7103(a). The Board is requesting to revise the currently approved OMB Control No. 2900-0674, adding four information collections previously approved under OMB Control No. 2900-0085, and one new information collection. Revised Control No. 2900-0674 would contain all appeals-related information collections for the legacy and new systems. 2900-0085 will be discontinued upon approval of this request to renew 2900-0674.

An agency may not conduct or sponsor, and a person is not required to respond to a collection of information unless it displays a currently valid OMB control number. The Federal Register Notice with a 60-day comment period soliciting comments on this collection of information was published at 83 No. 164 on Thursday, August 23, 2018, pages 42769 and 42770.

Affected Public: Individuals and households.

Estimated Annual Burden: 114,877.78 hours.

Estimated Average Burden per Respondent: 40.83 minutes.

Frequency of Response: Once.

Estimated Number of Respondents: 168,800.

• VA Form 10182: Notice of Disagreement (new) = 40,000.

• Nonstandard Form: Notice of Disagreement (legacy) = 60,000.

• VA Form 9: Appeal to the Board of Veterans' Appeals (legacy) = 64,500.

• Nonstandard Form: Withdrawal of Services by a Representative = 500.

• Nonstandard Form: Requests for Changes in Hearing Dates or Methods = 2,800.

• Nonstandard Form: Motions for Reconsideration =1000.

By direction of the Secretary.
Cynthia D. Harvey-Pryor,
Government Information Specialist, Department of Veterans Affairs.

[FR Doc. 2018-24759 Filed 11-13-18; 8:45 am]

BILLING CODE 8320-01-P